POSTAL REGULATORY COMMISSION

39 CFR Part 3050

[Docket No. RM2010-5; Order No. 352]

Periodic Reporting Rules

AGENCY: Postal Regulatory Commission.

ACTION: Proposed rule; availability of rulemaking petition.

SUMMARY: Under a new law, the Postal Service must file an annual compliance report on costs, revenues, rates, and quality of service associated with its products. It recently filed documents with the Commission to change some of the methods it uses to compile a fiscal year report. In the Commission's view, these documents constitute a rulemaking petition. Therefore, this document provides notice of the Postal Service's filing and an opportunity for public comment.

DATES: Comments are due: December 17, 2009.

ADDRESSES: Submit comments electronically via the Commission's Filing Online system at http://www.prc.gov. Commenters who cannot submit their views electronically should contact the person identified in “FOR FURTHER INFORMATION CONTACT” by telephone for advice on alternatives to electronic filing.

FOR FURTHER INFORMATION CONTACT: Stephen L. Sharfman, General Counsel, 202-789-6820 or stephen.sharfman@prc.gov.

SUPPLEMENTARY INFORMATION: On December 1, 2009, the Postal Service filed a petition pursuant to 39 CFR 3050.11 to initiate an informal rulemaking proceeding to consider changes in the analytical methods approved for use in periodic reporting.¹ Proposal Twenty-six would change the methods used to estimate the Revenue, Pieces, and Weight (RPW) values for Alaska Bypass mail and would not affect the FY09 Annual Compliance Review (ACR). In the attachment addressing Proposal Twenty-six that accompanies the Petition, the Postal Service explains that the pricing methodology for Alaska Bypass mail was changed from a piece system to a palletized system (where the piece total is the maximum number of 70 pound pieces plus one for the remainder on each pallet) as of May 11, 2009.

¹ Petition of the United States Postal Service Requesting Initiation of a Proceeding to Consider Proposed Changes in Analytic Principles (Proposals Twenty-six-Twenty-eight), December 1, 2009 (Petition).

Proposal Twenty-seven is triggered by a data collection change and would change the methodology used to estimate Carrier Sequence Barcode Sorter (CSBCS) productivity and would affect the FY 2009 Annual Compliance Report (ACR). Proposal Twenty-seven is a result of the discontinuation of Management Operating Data System (MODS) operation numbers. The Postal Service proposes to replace the MODS productivity data with adjusted throughput data from machine utilization reports.

Proposal Twenty-eight would remove all single-piece Parcel Post models from the FY 2009 ACR because the models are no longer required to support the price structure, tied to the calculation of workshare cost avoidances, or supported by data from existing systems.

The attachments to the Postal Service's Petition explain each proposal in more detail, including its objective, background, impact, and an empirical example (comparing the changes in data reporting to the status quo). The Petition, including the attachments, are available for review on the Commission's Web site, http://www.prc.gov.

Comments on Proposals Twenty-six through Twenty-eight are due no later than December 17, 2009.

Pursuant to 39 U.S.C. 505, Emmett Rand Costich and John Klingenberg are appointed as Public Representatives to represent the interests of the general public in the above-captioned docket.

It is ordered:

1. The Petition of the United States Postal Service Requesting Initiation of a Proceeding to Consider Proposed Changes in Analytic Principles (Proposals Twenty-six-Twenty-eight), filed December 1, 2009, is granted.

2. The Commission establishes Docket No. RM2010-5 to consider the matters raised by the Postal Service's Petition.

3. Interested persons may submit comments on Proposals Twenty-six through Twenty-eight no later than December 17, 2009.

4. The Commission will determine the need for reply comments after review of the initial comments.

5. The Commission appoints Emmett Rand Costich and John Klingenberg as Public Representatives to represent the interests of the general public in this proceeding.

6. The Secretary shall arrange for publication of this notice in the Federal Register.

By the Commission.
Judith M. Grady,
Assistant Secretary.

[FR Doc. E9-29615 Filed 12-11-09; 8:45 am]

BILLING CODE 7710-FW-S